DEPARTMENT OF AGRICULTURE

Forest Service

Allegheny National Forest; Pennsylvania; Transition EIS

AGENCY: Forest Service, USDA.

ACTION: Notice of intent to prepare an environmental impact statement.

SUMMARY: The Forest Service is proposing to authorize reasonable access for site-specific proposals to develop reserved and outstanding mineral rights within the Allegheny National Forest, with provisions to mitigate impacts to surface resources. We are also proposing to use design criteria and a site-specific review process through this decision to authorize reasonable access for future site-specific proposals to develop reserved and outstanding mineral rights within the Allegheny National Forest, with provisions to mitigate impacts to surface resources.

DATES: Comments concerning the scope of the analysis must be received by August 21, 2009. The draft environmental impact statement is expected January 2010, and the final environmental impact statement is expected April 2010.

ADDRESSES: Send written comments to Anthony V. Scardina, Allegheny National Forest, 4 Farm Colony Drive, Warren, PA 16365. Comments may also be sent via e-mail to comments-eastern-allegheny@fs.fed.us, or via facsimile to 814-726-1465. Comments sent via email should use the subject line “Transition EIS.”

Comments received in response to this solicitation, including names and addresses of those who comment, will be part of the public record for this proposed action. Comments submitted anonymously will be accepted and considered; however, anonymous comments may limit the respondents ability to participate in subsequent administrative review or judicial review.

FOR FURTHER INFORMATION CONTACT: Anthony V. Scardina, Allegheny National Forest, 4 Farm Colony Drive, Warren, PA 16365; (814) 728-6115 or ascardina@fs.fed.us.

Individuals who use telecommunication devices for the deaf (TDD) may call the Federal Information Relay Service (FIRS) at 1-800-877-8339 between 8 a.m. and 8 p.m., Eastern Time, Monday through Friday.

SUPPLEMENTARY INFORMATION: The Allegheny National Forest consists largely of land acquired from the private sector via purchase or donation. At the time of acquisition, ownership of oil and gas resources had often been conveyed to other private parties (“outstanding rights”), or reserved by the private seller or donor (“reserved rights”). As a result, ninety-three percent of the Forest is subject to outstanding or reserved oil and gas rights.

On April 9, 2009, the Forest Service, Forest Service Employees for Environmental Ethics (FSEEE), Allegheny Defense Project, and the Sierra Club filed a stipulation of dismissal, based upon a settlement agreement, with the U.S. District Court for the Western District of Pennsylvania (FSEEE et al. v. Forest Service, 08-323 (W.D. Pa.)). This lawsuit challenged the issuance of Notices to Proceed for development of reserved and outstanding mineral rights within the Allegheny National Forest without preparation of environmental analyses pursuant to the National Environmental Policy Act (NEPA) of 1969. The lawsuit was dismissed in May 2009.

Briefly, the settlement filed with the court included the processing of 54 oil and gas proposals for a total of 588 wells, 2 pipelines, and 1 seismic line using current review and approval procedures. Furthermore, the settlement established that the appropriate level of NEPA be conducted prior to authorization of future proposals.

The Allegheny National Forest is also in the process of preparing a supplemental environmental impact statement for the 2007 Forest Plan. This process responds to instructions in the February 15, 2008, decision by the Chief of the Forest Service on appeals of the Allegheny National Forest Revised Land and Resource Management Plan pertaining to design criteria associated with the development of reserved and outstanding mineral rights within the Allegheny National Forest. Information for this process can be found at http://www.fs.fed.us/r9/forests/allegheny/ and by clicking on the link for the ANF 2007 Forest Plan Supplemental EIS.

Purpose and Need for Action

The purpose of this action is to authorize reasonable access for forest-wide site-specific proposals to develop reserved and outstanding mineral rights within the Allegheny National Forest, with provisions to mitigate impacts to surface resources. The need to take such action includes:

1. To provide reasonable access to reserved and outstanding mineral rights beneath National Forest System lands of the Allegheny National Forest.

2. Mitigating impacts to surface resources of the Allegheny National Forest associated with providing reasonable access for development of reserved and outstanding mineral rights by applying Forest Plan design criteria and site-specific mitigations.

Proposed Action

The Forest Service is proposing to authorize reasonable access for site-specific proposals to develop reserved and outstanding mineral rights within the Allegheny National Forest, with provisions to mitigate impacts to surface resources.

We are also proposing to use design criteria and a site-specific review process through this decision to authorize reasonable access for future site-specific proposals to develop reserved and outstanding mineral rights within the Allegheny National Forest, with provisions to mitigate impacts to surface resources. We may approve future proposals consistent with the design criteria and review process, when and where appropriate, pursuant to 40 Code of Federal Regulations (CFR) 1506.3 and related regulations.

For purposes of scoping, this proposed action will be consistent with standards and guidelines in the 2007 Forest Plan Supplement Environmental Impact Statement proposed action.

The 2007 Forest Plan proposed action standards and guidelines, as well as site-specific information such as maps, number of wells, and approximate road mileage for the proposed action, can be found at http://www.fs.fed.us/r9/forests/allegheny/ and by clicking on the link for the Transition EIS.

Possible Alternatives

Alternatives are likely to include authorization of reasonable access for site-specific proposals to develop reserved and outstanding mineral rights within the Allegheny National Forest, using the alternative standards and guidelines that are being considered as part of the current Allegheny National Forest Plan Supplemental Environmental Impact process and other site-specific mitigations as provisions to mitigate impacts to surface resources. Alternative standards and guidelines that are being considered can be found at http://www.fs.fed.us/r9/forests/allegheny/ and by clicking on the link for the Transition EIS.

For the purpose of analysis and disclosure of environmental, social, and economic effects, denying reasonable access to reserved and outstanding mineral rights will serve as the No-action alternative. The No-action alternative will only serve as a baseline for comparing effects of other alternatives considered, as the Forest Service acknowledges that it lacks the legal authority to deny reasonable access to reserved and outstanding mineral rights without engaging in a taking of private property rights.

Lead and Cooperating Agencies

The lead agency for this proposal is the USDA Forest Service. The U.S. Environmental Protection Agency, U.S. Bureau of Land Management, and Pennsylvania Department of Environmental Protection will be invited to become cooperating agencies for this proposal.

Responsible Official

The Responsible Official for the decision is the Allegheny National Forest Supervisor, Leanne M. Marten.

Nature of Decision To Be Made

The decisions to be made by the Forest Supervisor are (1) what mitigations, if any, to apply in the authorization of reasonable access for site-specific proposals to develop reserved and outstanding mineral rights within the Allegheny National Forest; (2) what design criteria, review process, and mitigations, if any, to apply in the authorization of reasonable access for future site-specific proposals to develop reserved and outstanding mineral rights within the Allegheny National Forest.

Permits or Licenses Required

The Forest Service is not required to obtain any permits or licenses in order to implement this proposal.

Scoping Process

This Notice of Intent initiates the scoping process, which guides the development of the environmental impact statement. Public comment and involvement opportunities for this project can be found at http://www.fs.fed.us/r9/forests/allegheny/. Upon entering this Web site, there is a link for the Transition EIS that will provide information pertaining to this project.

It is important that reviewers provide their comments at such times and in such manner that they are useful to the agency's preparation of the environmental impact statement. Therefore, comments should be provided prior to the close of the comment period and should clearly articulate the reviewer's concerns and contentions. The submission of timely and specific comments can affect a reviewer's ability to participate in subsequent administrative appeal or judicial review.

Dated: June 16, 2009.
Leanne M. Marten,
Forest Supervisor.

[FR Doc. E9-14545 Filed 6-19-09; 8:45 am]

BILLING CODE 3410-11-P